DEPARTMENT OF COMMERCE

National Telecommunications and Information Administration

Recruitment of First Responder Network Authority Board Members

AGENCY: National Telecommunications and Information Administration, U.S. Department of Commerce.

ACTION: Notice.

SUMMARY: The National Telecommunications and Information Administration (NTIA) issues this Notice on behalf of the First Responder Network Authority (FirstNet) to initiate the annual process to seek expressions of interest from individuals who would like to serve on the FirstNet Board. One of the 12 appointments of nonpermanent members to the FirstNet Board will expire in August 2019. NTIA issues this Notice to obtain expressions of interest in being appointed by the Secretary to the FirstNet Board.

DATES: Expressions of interest must be postmarked or electronically transmitted on or before April 18, 2019.

ADDRESSES: Persons wishing to submit expressions of interest as described below should send that information to: Marsha MacBride, Associate Administrator, Office of Public Safety Communications, National Telecommunications and Information Administration, by email to FirstNetBoardApplicant@ntia.doc.gov; or by U.S. mail or commercial delivery service to: Office of Public Safety Communications, National Telecommunications and Information Administration, U.S. Department of Commerce, 1401 Constitution Avenue NW, Room 4078, Washington, DC 20230. Please note that all material sent via the U.S. Postal Service (including “Overnight” or “Express Mail”) is subject to delivery delays of up to two weeks due to mail security procedures.

FOR FURTHER INFORMATION CONTACT: Marsha MacBride, Associate Administrator, Office of Public Safety Communications, National Telecommunications and Information Administration, U.S. Department of Commerce, 1401 Constitution Avenue NW, Room 4078, Washington, DC 20230; telephone: (202) 482-1150; email: mmacbride@ntia.doc.gov. Please direct media inquiries to NTIA's Office of Public Affairs, (202) 482-7002.

SUPPLEMENTARY INFORMATION:

I. Background and Authority

The Middle Class Tax Relief and Job Creation Act of 2012 (Act) created the First Responder Network Authority (FirstNet) as an independent authority within NTIA and charged it with ensuring the building, deployment, and operation of a nationwide, interoperable public safety broadband network, based on a single, national network architecture.¹ FirstNet holds the single public safety license granted for wireless public safety broadband deployment. The FirstNet Board is responsible for providing overall policy direction and oversight of FirstNet to ensure that the nationwide network continuously meets the needs of public safety.

¹ 47 U.S.C. 1422(b).

II. Structure

The FirstNet Board is composed of 15 voting members. The Act names the Secretary of the Department of Homeland Security, the Attorney General of the United States, and the Director of the Office of Management and Budget as permanent members of the FirstNet Board. The Secretary of Commerce appoints the twelve nonpermanent members of the FirstNet Board.² The Act requires each Board member to have experience or expertise in at least one of the following substantive areas: Public safety, network, technical, and/or financial.³ Additionally, the composition of the FirstNet Board must satisfy the other requirements specified in the Act, including that: (i) At least three Board members have served as public safety professionals; (ii) at least three members represent the collective interests of states, localities, tribes, and territories; and (iii) its members reflect geographic and regional, as well as rural and urban, representation.⁴ An individual Board member may satisfy more than one of these requirements. The current nonpermanent FirstNet Board members are (noting length of term):

² 47 U.S.C. 1424(b).

³ 47 U.S.C. 1424(b)(2)(B).

⁴ 47 U.S.C. 1424(b)(2)(A).

• Edward Horowitz, Chair, Venture capital/technology executive (Term expires: August 2021)

• Teri Takai, Government information technology expert; former CIO, states of Michigan and California (Term expires: August 2019)

• Robert Tipton Osterthaler, Business/technology executive, network (Term expires: January 2021)

• Richard Ross, Jr., Police Commissioner, City of Philadelphia (Term expires: January 2021)

• Richard W. Stanek, Sheriff, Hennepin County, Minnesota (Term expires: January 2021)

• David Zolet, President & CEO, LMI (Term expires: January 2021)

• Richard Carrizzo, Fire Chief, Southern Platte Fire Protection District, MO (Term expires August 2021)

• Neil E. Cox, Telecommunications/technology executive (Term expires: August 2021)

• Brian Crawford, SVP and Chief Administrative Officer for Willis-Knighton Health System/former Fire Chief and municipal government executive (Term expires: August 2021)

• Billy Hewes, Mayor of Gulfport, MS (Term expires: August 2021)

• Paul Patrick, Division Director, Family Health and Preparedness, Utah Department of Health (Term expires: August 2021)

• Brigadier General Welton Chase, Retired, U. S. Army, Army Information Technology (Term expires: September 2021)

More information about the FirstNet Board is available at www.firstnet.gov/about/Board. Board members are appointed for a term of three years, and Board members may not serve more than two consecutive full three-year terms.⁵

⁵ 47 U.S.C. 1424(c)(2)(A)(ii).

III. Compensation and Status as Government Employees

FirstNet Board members are appointed as special government employees. FirstNet Board members are compensated at the daily rate of basic pay for level IV of the Executive Schedule (approximately $164,200 per year).⁶ Each Board member must be a United States citizen, cannot be a registered lobbyist, and cannot be a registered agent of, employed by, or receive payments from a foreign government.⁷

⁶ 47 U.S.C. 1424(g).

⁷ See, Revised Guidance on Appointment of Lobbyists to Federal Advisory Committees, Boards, and Commissions, Office of Management and Budget, 79 FR 47482 (Aug. 13, 2014).

IV. Financial Disclosure and Conflicts of Interest

FirstNet Board members must comply with certain federal conflict of interest statutes and ethics regulations, including some financial disclosure requirements. A FirstNet Board member will generally be prohibited from participating on any particular matter that will have a direct and predictable effect on his or her personal financial interests or on the interests of the appointee's spouse, minor children, or non-federal employer.

V. Selection Process

At the direction of the Secretary of Commerce, NTIA will conduct outreach to the public safety community, state and local organizations, and industry to solicit nominations for candidates to the Board who satisfy the statutory requirements for membership. In addition, by this Notice, the Secretary of Commerce, through NTIA, will accept expressions of interest until April 18, 2019, from any individual, or any organization that wishes to propose a candidate, who satisfies the statutory requirements for membership on the FirstNet Board.

All parties wishing to be considered should submit their full name, address, telephone number, email address, a current resume, and a statement of qualifications that references how the candidate satisfies the Act's expertise, representational, and geographic requirements for FirstNet Board membership, as described in this Notice, along with a statement describing why they want to serve on the FirstNet Board and affirming their ability and availability to take a regular and active role in the Board's work. The Secretary of Commerce will select FirstNet Board candidates based on the eligibility requirements in the Act and recommendations submitted by NTIA. NTIA will recommend candidates based on an assessment of their qualifications as well as their demonstrated ability to work in a collaborative way to achieve the goals and objectives of FirstNet as set forth in the Act. NTIA may consult with FirstNet Board members or executives in making its recommendation. Board candidates will be vetted through the Department of Commerce and are subject to an appropriate background check for security clearance.

Dated: March 13, 2019.
Kathy Smith,
Chief Counsel, National Telecommunications and Information Administration.

[FR Doc. 2019-05076 Filed 3-18-19; 8:45 am]

BILLING CODE 3510-10-P